DEPARTMENT OF TRANSPORTATION

Federal Aviation Administration

14 CFR Part 39

[Docket No. FAA-2010-0217; Directorate Identifier 2009-NE-23-AD]

RIN 2120-AA64

Airworthiness Directives; Pratt & Whitney (PW) PW4000 Series Turbofan Engines

AGENCY: Federal Aviation Administration (FAA), DOT.

ACTION: Notice of proposed rulemaking (NPRM).

SUMMARY: The FAA proposes to adopt a new airworthiness directive (AD) for PW PW4052, PW4056, PW4060, PW4062, PW4062A, PW4074, PW4077, PW4077D, PW4084D, PW4090, PW4090-3, PW4152, PW4156, PW4156A, PW4158, PW4164, PW4168, PW4168A, PW4460, and PW4462 turbofan engines. This proposed AD would require initial and repetitive fluorescent penetrant inspections (FPI) for cracks in the blade locking and loading slots of the high-pressure compressor (HPC) drum rotor disk assembly. This proposed AD results from reports of cracked locking and loading slots in the HPC drum rotor disk assembly. We are proposing this AD to detect cracks in the locking and loading slots in the HPC drum rotor disk assemblies, which could result in rupture of the HPC drum rotor disk assembly and damage to the airplane.

DATES: We must receive any comments on this proposed AD by May 24, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Pratt & Whitney, 400 Main St., East Hartford, CT 06108; telephone (860) 565-7700; fax (860) 565-1605, for information identified in this proposed AD.

FOR FURTHER INFORMATION CONTACT: Rose Len, Aerospace Engineer, Engine Certification Office, FAA, Engine & Propeller Directorate, 12 New England Executive Park, Burlington, MA 01803; e-mail: rose.len@faa.gov; telephone (781) 238-7772; fax (781) 238-7199.

SUPPLEMENTARY INFORMATION:

Comments Invited

We invite you to send us any written relevant data, views, or arguments regarding this proposal. Send your comments to an address listed under ADDRESSES. Include “Docket No. FAA-2010-0217; Directorate Identifier 2009-NE-23-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

We have received reports of 294 HPC drum rotor disk assemblies that were removed because of cracks in the rear drum locking and loading slots. We determined that the cracks resulted from thermal mechanical fatigue. Cracks in rotating life-limited parts (LLPs), such as the HPC rear drum of the HPC drum rotor disk assembly, could result in rupture of that part.

Relevant Service Information

We have reviewed and approved the technical contents of PW Service Bulletins (SBs) PW4ENG 72-796, dated June 11, 2009, PW4G-100-72-186, Revision 1, dated September 2, 2004, and PW4G-112-72-264, Revision 1, dated September 2, 2004, that describe procedures for performing a local FPI of the HPC drum rotor disk assembly blade locking and loading slots for cracks.

FAA's Determination and Requirements of the Proposed AD

We have evaluated all pertinent information and identified an unsafe condition that is likely to exist or develop on other products of this same type design. We are proposing this AD, which would require performing a repetitive local FPI for cracks in the HPC drum rotor disk assembly blade locking and loading slots. The proposed AD would require you to use the service information described previously to perform these actions.

Interim Action

These actions are interim actions and we may take further rulemaking actions in the future.

Costs of Compliance

We estimate that this proposed AD would affect 1,038 engines installed on airplanes of U.S. registry. We also estimate that it would take about 1 work-hour per engine to perform the proposed actions, and that the average labor rate is $85 per work-hour. No parts are required. Based on these figures, we estimate the total cost of the proposed AD to U.S. operators to be $88,230.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pratt & Whitney: Docket No. FAA-2010-0217; Directorate Identifier 2009-NE-23-AD.

Comments Due Date

(a) The Federal Aviation Administration (FAA) must receive comments on this airworthiness directive (AD) action by May 24, 2010.

Affected ADs

(b) None.

Applicability

(c) This AD applies to Pratt & Whitney (PW) PW4052, PW4056, PW4060, PW4062, PW4062A, PW4074, PW4077, PW4077D, PW4084D, PW4090, PW4090-3, PW4152, PW4156, PW4156A, PW4158, PW4164, PW4168, PW4168A, PW4460, and PW4462 turbofan engines. These engines are installed on, but not limited to, Boeing 747-400, 767-200, 767-300, 777-200, and 777-300 airplanes; McDonnell Douglas MD-11 airplanes; and Airbus A300-600, A310-300, and A330-200 airplanes.

Unsafe Condition

(d) This AD results from reports of cracked locking and loading slots in the high-pressure compressor (HPC) drum rotor disk assembly. We are issuing this AD to detect cracks in the locking and loading slots in the HPC drum rotor disk assemblies, which could result in rupture of the HPC drum rotor disk assembly and damage to the airplane.

Compliance

(e) You are responsible for having the actions required by this AD performed within the compliance times specified unless the actions have already been done.

Local Fluorescent Penetrant Inspection

(f) Perform a local fluorescent penetrant inspection for cracks in the HPC drum rotor disk assembly blade locking and loading slots of the specific stages of the HPC drum rotor disk assemblies from which any of the blades are removed as specified in Table 1 of this AD.

Table 1—Compliance Times and Service Bulletins by Engine Model
For engine model | Inspect whenever— | Use—
(1) PW4074, PW4077, PW4077D, PW4084D, PW4090, and PW4090-3 | Any of the 13th or 14th stage blades are removed during a shop visit | Paragraphs 1.A. through 1.B. of the Accomplishment Instructions of PW4G-112-72-264, Revision 1, dated September 2, 2004.
(2) PW4164, PW4168, and PW4168A | Any of the 13th, 14th, or 15th stage blades are removed during a shop visit | Paragraphs 1.A. through 1.C of the Accomplishment Instructions of PW4G-100-72-186, Revision 1, dated September 2, 2004.
(3) PW4052, PW4056, PW4060, PW4062, PW4062A, PW4152, PW4156, PW4156A, PW4158, PW4460, and PW4462 | Any of the 13th, 14th, or 15th stage blades are removed during a shop visit | Paragraphs 1.A. through 1.C. of the Accomplishment Instructions of PW4ENG 72-796, dated June 11, 2009.

(g) Remove from service any HPC drum rotor disk assembly found with a crack in the blade loading and locking slots of the HPC drum rotor disk assembly.

Alternative Methods of Compliance

(h) The Manager, Engine Certification Office, has the authority to approve alternative methods of compliance for this AD if requested using the procedures found in 14 CFR 39.19.

Related Information

(i) Contact Rose Len, Aerospace Engineer, Engine Certification Office, FAA, Engine & Propeller Directorate, 12 New England Executive Park, Burlington, MA 01803; e-mail: rose.len@faa.gov; telephone (781) 238-7772; fax (781) 238-7199, for more information about this AD.

(j) Pratt & Whitney Service Bulletins PW4ENG 72-796, dated June 11, 2009, PW4G-100-72-186, Revision 1, dated September 2, 2004, and PW4G-112-72-264, Revision 1, dated September 2, 2004, pertain to the subject of this AD. Contact Pratt & Whitney, 400 Main St., East Hartford, CT 06108; telephone (860) 565-7700; fax (860) 565-1605, for a copy of this service information.

Issued in Burlington, Massachusetts, on March 16, 2010.
Francis A. Favara,
Manager, Engine and Propeller Directorate, Aircraft Certification Service.

[FR Doc. 2010-6581 Filed 3-24-10; 8:45 am]

BILLING CODE 4910-13-P